COMMODITY FUTURES TRADING COMMISSION

Agency Information Collection Activities: Notice of Intent To Renew Collection 3038-0018, Information Concerning Warehouses

AGENCY: Commodity Futures Trading Commission.

ACTION: Notice.

SUMMARY: The Commodity Futures Trading Commission (CFTC) is announcing an opportunity for public comment on the proposed collection of certain information by the agency. Under the Paperwork Reduction Act of 1995 (PRA), 44 U.S.C. 3501 et seq., Federal agencies are required to publish notice in the Federal Register concerning each proposed collection of information, including each proposed extension of an existing collection of information, and to allow 60 days for public comment in response to the notice. This notice solicits comments on requirements relating to information concerning warehouses and warehouse charges.

DATES: Comments must be submitted on or before July 10, 2000.

ADDRESSES: Comments may be mailed to Lamont L. Reese, Division Economic Analysis, U.S. Commodity Futures Trading Commission, 1155 21st Street NW, Washington, DC 20581.

FOR FURTHER INFORMATION CONTACT: Lamont L. Reese, (202) 418-5310; FAX: (202) 418-5527; email: Ireese@cftc.gov.

SUPPLEMENTARY INFORMATION: Under the PRA, Federal agencies must obtain approval from the Office of Management and Budget (OMB) for each collection of information they conduct or sponsor. “Collection of information''’ is defined in 44 U.S.C. 3502(3) and 5 CFR 1320.3(c) and includes agency requests or requirements that members of the public submit reports, keep records, or provide information to a third party. Section 3506(c)(2)(A) of the PRA, 44 U.S.C. 3506(c)(2)(A), requires Federal agencies to provide a 60-day notice in the Federal Register concerning each proposed collection of information, including each proposed extension of an existing collection of information, before submitting the collection to OMB for approval. To comply with this requirement, the CFTC is publishing notice of the proposed collection of information listed below.

With respect to the following collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information of those who are to respond, including through the use of appropriate automated electronic, mechanical, or other technological collection techniques or other forms of information technology; e.g., permitting electronic submission of responses.

Information Concerning Warehouses, OMB Control No. 3038-0018—Extension

Under Commission Rules 1.42 and 1.43, 17 CFR 1.42 and 1.43, contract markets must file a list of all warehouses regular for delivery. Upon call by the Commission, a schedule of warehouse charges and information concerning delivery notices must also be furnished. These rules are designed to assist the Commission in the prevention of market manipulation and are promulgated pursuant to the Commission's rulemaking authority contained in section 5a of the Commodity Exchange Act, 7 U.S.C. 7a.

The Commission estimates the burden of this collection of information as follows:

Estimated Annual Reporting Burden
17 CFR section | Annual number of respondents | Frequency of response | Total annual responses | Hours per response | Total hours
17 CFR 1.42 & 1.43 | 11 | Weekly | 178 | .168 | 30

There are no capital costs or operating and maintenance costs associated with this collection.

This estimate is based on the number of exchanges which file the information required under Rule 1.43.

Dated: May 3, 2000.
Jean A. Webb,
Secretary of the Commission.

[FR Doc. 00-11527 Filed 5-8-00; 8:45 am]

BILLING CODE 6351-01-M